SOCIAL SECURITY ADMINISTRATION

Agency Information Collection Activities: Proposed Request and Comment Request

In compliance with Public Law 104-13, the Paperwork Reduction Act of 1995, SSA is providing notice of an information collection that requires submission to the Office of Management and Budget (OMB). SSA is soliciting comments on the accuracy of the agency's burden estimate; the need for the information; its practical utility; ways to enhance its quality, utility and clarity; and on ways to minimize burden on respondents, including the use of automated collection techniques or other forms of information technology.

The information collection listed below will be submitted to OMB within 60 days from the date of this notice. Therefore, comments and recommendations regarding the information collection would be most useful if received by the Agency within 60 days from the date of this publication. Comments should be directed to the SSA Reports Clearance Officer at the address listed at the end of the notice. You can obtain a copy of the collection instrument by calling the SSA Reports Clearance Officer on (410) 965-4145, or by writing to him.

Waiver of Right to Appear, Disability Hearing—0960-0534. The Social Security Administration uses Form SSA-773-U4 to provide claimants with an effective means of requesting waiver of their right to appear at a disability hearing. The information collected will be used as documentation that claimants understand their right to appear and the effects of the decision to waive this right. The respondents are claimants under Title II (Old-Age, Survivors and Disability Insurance) and Title XVI (Supplemental Security Income), of the Social Security Act, who wish to waive their right to appear at a disability hearing.

Number of Respondents: 194.

Frequency of Response: 1.

Average Burden Per Response: 25 minutes.

Estimated Average Burden: 81 hours.

Social Security Administration, DCFAM, Attn: Frederick W. Brickenkamp, 6401 Security Blvd., 1-A-21 Operations Bldg., Baltimore, MD 21235.

Dated: September 11, 2000.
Frederick W. Brickenkamp,
Reports Clearance Officer, Social Security Administration.

[FR Doc. 00-23700 Filed 9-14-00; 8:45 am]

BILLING CODE 4190-29-P